INTERNATIONAL TRADE COMMISSION

[Investigation No. 731-TA-344 (Fifth Review)]

Tapered Roller Bearings From China

Determination

On the basis of the record ¹ developed in the subject five-year review, the United States International Trade Commission (“Commission”) determines, pursuant to the Tariff Act of 1930 (“the Act”), that revocation of the antidumping duty order on tapered roller bearings from China would be likely to lead to continuation or recurrence of material injury to an industry in the United States within a reasonably foreseeable time.²

¹ The record is defined in § 207.2(f) of the Commission's Rules of Practice and Procedure (19 CFR 207.2(f)).

² Commissioner Amy A. Karpel not participating.

Background

The Commission instituted this review on September 1, 2023 (88 FR 60489) and determined on December 5, 2023 that it would conduct an expedited review (89 FR 2982, January 17, 2024).

The Commission made this determination pursuant to section 751(c) of the Act (19 U.S.C. 1675(c)). It completed and filed its determination in this review on March 8, 2024. The views of the Commission are contained in USITC Publication 5497 (March 2024), entitled Tapered Roller Bearings from China: Investigation No. 731-TA-344 (Fifth Review).

By order of the Commission.
Issued: March 8, 2024.
Katherine Hiner,
Supervisory Attorney.

[FR Doc. 2024-05433 Filed 3-13-24; 8:45 am]

BILLING CODE 7020-02-P